DEPARTMENT OF HOMELAND SECURITY

U.S. Customs and Border Protection

Automated Commercial Environment (ACE): Announcement of a New Start Date for the National Customs Automation Program Test of Automated Manifest Capabilities for Ocean and Rail Carriers

AGENCY: U.S. Customs and Border Protection, DHS.

ACTION: General notice.

SUMMARY: U.S. Customs and Border Protection (CBP) is announcing that the National Customs Automation Program (NCAP) test concerning the transmission of required advance ocean and rail data through the Automated Commercial Environment is scheduled to begin no earlier than August 1, 2011. CBP previously announced that this test would begin no earlier than December 22, 2010. This notice advises the public of the updated timeline for the test and announces that applications are still being accepted.

DATES: The test will commence no earlier than August 1, 2011 and will run for no less than 90 days. CBP is currently accepting applications to participate and will continue to accept applications throughout the duration of the test. Selected applicants will be notified by CBP and will then undergo a certification process prior to beginning the test. Comments concerning this notice and all aspects of the announced test may be submitted at any time during the test period.

ADDRESSES: Applications to participate in the test should be sent to Susan Maskell at Susan.Maskell@dhs.gov. Please describe in the body of the e-mail any past electronic data interchange (EDI) history with CBP. Written comments concerning program and policy issues should be sent to ACEM1POLICY@cbp.dhs.gov. Please indicate in the subject line whether the comment relates to ocean carriers, rail carriers, or both.

FOR FURTHER INFORMATION CONTACT: Interested parties should direct any questions to their assigned Client Representative. Interested parties without an assigned Client Representative should direct their questions to the Client Representative Branch at 571-468-5500.

SUPPLEMENTARY INFORMATION:

Background

Certain ocean and rail data is required to be transmitted in advance of arrival through a CBP-approved electronic data interchange (EDI).The data includes the advance cargo information required by section 343 of the Trade Act of 2002, as amended by the Maritime Transportation Security Act of 2002 (See 68 FR 68140, December 5, 2003), and the advance data ocean carriers are required to provide pursuant to the importer security filing and additional carrier requirements interim final rule, commonly known as 10+2 (See 73 FR 71730, November 25, 2008).¹ Currently, the Automated Commercial System (ACS) is the CBP-approved EDI through which this required data must be transmitted.

¹ For specific information about the requirements to provide advance cargo information to CBP, please see the following sections of title 19 of the Code of Federal Regulations (CFR): 4.7 Inward foreign manifest; production on demand; contents and form; advance filing of cargo declaration; 4.7a Inward manifest; information required; alternative forms; 4.7c Vessel stow plan; 4.7d Container status messages, 123.91 Electronic information for rail cargo required in advance of arrival; and part 149 Importer Security Filing.

New Start Date for NCAP Test

On October 20, 2010, CBP issued a Federal Register notice announcing a National Customs Automation Program (NCAP) test to allow ocean and rail data to be transmitted through the Automated Commercial Environment (ACE) and scheduled the test to commence no earlier than December 22, 2010. See 75 FR 64737. Due to programming delays, the test will begin no earlier than August 1, 2011.

For complete information on the test, including specifics on eligibility criteria, test procedures, and the application process, which is still ongoing, please refer to the October 20, 2010 notice.

Next Steps

After the successful completion of the test, CBP plans to publish a document in the Federal Register announcing that ACE will be the only CBP-approved EDI for transmitting required advance ocean and rail data. CBP plans to provide an appropriate transitional period to allow all affected users adequate time to transition to ACE.

Dated: July 13, 2011.
Thomas Winkowski,
Assistant Commissioner, Office of Field Operations.

[FR Doc. 2011-18089 Filed 7-18-11; 8:45 am]

BILLING CODE 9111-14-P